DEPARTMENT OF TRANSPORTATION

National Highway Traffic Safety Administration

[Docket No. NHTSA-2012-0084]

National Automotive Sampling System

AGENCY: National Highway Traffic Safety Administration (NHTSA), Department of Transportation (DOT).

ACTION: Notice and request for comments.

SUMMARY: The NHTSA is conducting a comprehensive review of the National Automotive Sampling System (NASS) research design and data collection methods as part of a major effort to modernize the system. Users of NASS and crash data may comment on the future utility of current data elements, recommend additional data elements and attributes, and describe their anticipated data needs.

DATES: Please submit all comments to the Docket by July 20, 2012.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Note that all comments received will be posted without change to http://www.regulations.gov, including any personal information provided. Please see the “Privacy Act” heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Confidential Information: If you wish to submit any information under a claim of confidentiality, you should submit three copies of your complete submission, including the information you claim to be confidential business information, to the Chief Counsel, NHTSA, 1200 New Jersey Avenue SE., Washington, DC 20590-0001. In addition, you should submit two copies, from which you have deleted the claimed confidential business information, to Docket Management at the address given above under ADDRESSES. When you send a comment containing information claimed to be confidential business information, you should include a cover letter setting forth the information specified in our confidential business information regulation. (49 CFR part 512.)

Docket: For access to the docket to read background documents or comments received, go to http://www.regulations.gov or the street address listed above. Follow the online instructions for accessing the dockets.

FOR FURTHER INFORMATION CONTACT: For questions relating to the redesign effort, please contact Donna Glassbrenner, Mathematical Analysis Division, NHTSA, telephone: (202) 366-3962, email: Donna.Glassbrenner@dot.gov. She may also be reached at 1200 New Jersey Avenue SE., Washington, DC 20590.

SUPPLEMENTARY INFORMATION: NHTSA is undertaking a modernization effort to upgrade the National Automotive Sampling System (NASS) by improving the information technology (IT) infrastructure, updating and prioritizing the data collected, reselecting the sample sites and sample sizes, re-examining the electronic formats in which the crash data files are made available to the public, and improving data collection methods and quality control procedures, among other activities.

NASS collects crash data on a nationally representative sample of police-reported motor vehicle traffic crashes and related injuries. NASS data are used by Federal, State, and local government agencies, as well as by industry and academia in the U.S. and around the world. The data enable stakeholders to make informed regulatory, program, and policy decisions regarding vehicle design and traffic safety. The NASS system currently has two components: The General Estimates System (GES) and the Crashworthiness Data System (CDS). While the GES captures information on all types of traffic crashes, the CDS focuses on more severe crashes involving passenger vehicles to better document the consequences to vehicles and occupants in crashes—i.e., crashworthiness.

NASS was originally designed in the 1970's, and has not received significant revision since that time with regard to the type of data collected and the sites of data collection. Over the last three decades, NHTSA understands that the scope of traffic safety studies have expanded and the data needs of the transportation community have increased and significantly changed. In addition, the distribution of the U.S. population has shifted over the past 23 years, and there is a growing need for the collection of information that addresses issues of crash avoidance. Recognizing the importance of this data, NHTSA is pursuing data improvement initiatives that will enhance the quality of the data collected and the overall effectiveness of the NASS.

This modernization effort includes the following major objectives:

• Propose data elements for the crash investigation portion of NASS that are responsive to the current and future needs of both internal and external data users;

• Develop a detailed, executable sample design and data collection protocol blueprint that meets data needs in an effective and efficient manner while still maintaining national representativeness;

• Modernize the information technology (IT) infrastructure;

• Re-examine the electronic formats in which the crash data files are made available to the public; and

• Examine using new data collection methods and quality control procedures to improve data quality and timeliness.

In order to meet these objectives, NHTSA invites stakeholders to comment on the current data elements, propose new data elements, make suggestions on the research design and data collection protocol for the modernized study, and make any other suggestions they feel NHTSA should consider to improve crash data.

Current NASS data elements, coding instructions, and descriptive materials can be reviewed on NHTSA's Web site at: http://nhtsa.gov/NASS.

Terry Shelton,
Associate Administrator for the National Center for Statistics and Analysis.

[FR Doc. 2012-15228 Filed 6-20-12; 8:45 am]

BILLING CODE 4910-59-P